DEPARTMENT OF HEALTH AND HUMAN SERVICES

Centers for Disease Control and Prevention

[60Day-21-21BL; Docket No. CDC-2020-0120]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled, “Evaluation of the Overdose Data to Action Technical Assistance Hub”. This proposed collection will be used to monitor and evaluate the effectiveness and impact of technical assistance (TA) provided to Overdose Data to Action (OD2A) program recipients funded to implement opioid surveillance and prevention efforts in their jurisdictions.

DATES: CDC must receive written comments on or before February 9, 2021.

ADDRESSES: You may submit comments, identified by Docket No. CDC-2020-0120 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Evaluation of the Overdose Data to Action Technical Assistance Hub—New—National Center for Injury Prevention and Control (NCIPC), Centers for Disease Control and Prevention (CDC).

Background and Brief Description

The Division of Overdose Prevention (DOP), at Centers for Disease Control and Prevention (CDC) requests a three-year OMB approval to support the evaluation of technical assistance (TA) provided for the Overdose Data to Action (OD2A) program. OD2A is a cooperative agreement (CDC-RFA-CE19-1904) funded in 2019 to focus on comprehensive and interdisciplinary opioid overdose prevention efforts in 47 state health departments, 16 localities, Puerto Rico, Washington DC, and the North Mariana Islands. This program consists of two required components- a surveillance component and a prevention component. OD2A recipients implement a combination of activities across ten strategies within these components in order to gain access to high quality, complete, and timelier data on opioid prescribing and overdoses and to use those data to inform prevention and response efforts in their jurisdictions.

Training and technical assistance (TA) is essential to building knowledge and strengthening the capacity of recipients to implement and evaluate OD2A program strategies. CDC will develop and deploy a TA hub (hereafter referred to as the OD2A TA Center) to deliver comprehensive technical assistance and training to support the successful implementation and evaluation of surveillance and prevention activities. The OD2A TA Center is designed to enhance the efficiency, coordination, and effectiveness of TA efforts by streamlining and centralizing the provision of overdose surveillance and prevention TA. TA to OD2A recipients is divided into four different levels with multiple modes of TA delivery and involves a wide range of TA providers including CDC staff, internal and external subject matter experts (SMEs) and program partners as well as ICF staff.

The evaluation consists of two web-based surveys designed to collect process and outcome measures about TA access, utilization, and outcomes across all 66 OD2A recipient programs. The Technical Assistance Feedback Form will be administered to collect immediate feedback following individual TA encounters and group events such as webinars and in-person trainings. The Annual OD2A TA Survey will be distributed twice (mid-point and final) to assess satisfaction with overall TA provided and the extent to which TA supports informed implementation of OD2A strategies. The information obtained through this evaluation will allow TA providers to assess OD2A recipients' experience and utility of knowledge and resources gained through individual TA support, peer-to-peer sessions, and other group trainings. Ultimately, the evaluation data will inform subsequent rounds of TA and allow TA providers to make necessary adjustments to the overall TA strategy for continuous quality improvement. This will ensure recipients have the support necessary to implement strategies that will improve opioid surveillance and prevention policies and practices within their communities.

Estimated Annualized Burden Hours
Type of respondents | Form name | Number of respondents | Number of responses per respondent | Average burden per response (in hours) | Total burden (in hours)
OD2A Recipients | TA Feedback Form | 671 | 2 | 5/60 | 112
Annual OD2A TA Survey |  | 440 | 1 | 15/60 | 110
Total |  |  |  |  | 222

Jeffrey M. Zirger,
Lead, Information Collection Review Office, Office of Scientific Integrity, Office of Science, Centers for Disease Control and Prevention.

[FR Doc. 2020-27325 Filed 12-10-20; 8:45 am]

BILLING CODE 4163-18-P